DEPARTMENT OF TREASURY

Internal Revenue Service

Taxpayer Advocacy Panel Meeting Cancellation

AGENCY: Internal Revenue Service (IRS) Treasury.

ACTION: Notice of meeting cancellation

SUMMARY: Notice is hereby given of the cancellation of the open meeting of the Taxpayer Advocacy Panel Small Business/Self-Employed Decreasing Non-Filers Project Committee scheduled for Tuesday, March 20, 2012 at 10 a.m. Eastern Time via teleconference, which was originally published in the Federal Register on February 14, 2012, (Volume 77, Number 30, Page 8329).

The meeting is cancelled pending renewal of the Taxpayer Advocacy Panel Charter.

FOR FURTHER INFORMATION CONTACT: Patricia Robb at 1-888-912-1227 or (414) 231-2360.

Dated: March 14, 2012.
Shawn Collins,
Director, Taxpayer Advocacy Panel.

[FR Doc. 2012-6857 Filed 3-21-12; 8:45 am]

BILLING CODE 4830-01-M